DEPARTMENT OF THE TREASURY

Submission for OMB Review; Comment Request

December 18, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 5, 2001 to be assured of consideration.

Bureau of Alcohol, Tobacco and Firearms (BATF)

OMB Number: 1512-0045.

Form Number: ATF F 5130.10.

Recordkeeping Requirement ID Number: ATF REC 5130/2.

Type of Review: Extension.

Title: Letterhead Applications and Notices Filed by Brewers.

Description: The Internal Revenue Code requires brewers to file a notice of intent to operate a brewery. ATF Form 5130.10 is similar to a permit; and, when approved by ATF, is a brewer's authorization to operate. Letterhead applications and notices are necessary to identify brewery activities so that ATF may insure that proposed operations do not jeopardize Federal revenues.

Respondents: Business or other for-profit.

Estimated Number of Respondents: 1,750.

Estimated Burden Hours Per Respondent: ATF F 5310.10—3 hours; Notices and Applications—30 minutes.

Frequency of Response: On occasion.

Estimated Total Reporting Burden: 9,625 hours.

OMB Number: 1512-0387.

Recordkeeping Requirement ID Number: ATF REC 7570/2 and ATF REC 7570/3.

Type of Review: Extension.

Title: Records of Acquisition and Disposition, Collectors or Firearms.

Description: These records are used by ATF in criminal investigations and compliance inspections in fulfilling the Bureau's mission to enforce the gun control laws.

Respondents: Business or other for-profit.

Estimated Number of Recordkeepers: 172,250.

Estimated Burden Hours Per Recordkeeper: 3 hours.

Estimated Total Recordkeeping Burden: 559,791 hours.

OMB Number: 1512-0474.

Recordkeeping Requirement ID Number: ATF REC 5130/5.

Type of Review: Extension.

Title: Principal Place of Business on Beer Labels.

Description: ATF regulations permit domestic brewers who operate more than one brewery to show as their address on labels and kegs of beer their “principal place of business” address. This label option may be used in lieu of showing the actual place of production on the label or of listing all of the brewer's locations on the label.

Respondents: Business or other for-profit.

Estimated Number of Respondents: 1,200.

Estimated Burden Hours Per Respondent: 0.

Estimated Total Reporting Burden: 1 hour.

OMB Number: 1512-0510.

Form Number: None.

Type of Review: Extension.

Title: Letter Application to Obtain Authorization for the Assembly of a Nonsporting Rifle or Nonsporting Shotgun for the Purpose of Testing and Evaluation.

Description: This information collection is required by ATF to provide a means to obtain authorization for the assembly of a nonsporting rifle or nonsporting shotgun for the purpose of testing or evaluation.

Respondents: Business or other for-profit, Individuals or households.

Estimated Number of Respondents: 5.

Estimated Burden Hours Per Respondent: 30 minutes.

Estimated Total Reporting Burden: 3 hour.

Clearance Officer: Frank Bowers (202) 927-8930, Bureau of Alcohol, Tobacco and Firearms, Room 3200, 650 Massachusetts Avenue, NW., Washington, DC 20226.

OMB Reviewer: Alexander T. Hunt (202) 395-7860, Office of Management and Budget, Room 10202, New Executive Office Building, Washington, DC 20503.

Lois K. Holland,
Departmental Reports, Management Officer.

[FR Doc. 01-144 Filed 1-3-01; 8:45 am]

BILLING CODE 4810-31-P